FEDERAL COMMUNICATIONS COMMISSION

[DA 14-1856]

Notice of Debarment

AGENCY: Federal Communications Commission.

ACTION: Notice; correction

SUMMARY: The Enforcement Bureau published a document in the Federal Register of January 7, 2015, debarring Ms. Donna P. English from the schools and libraries universal service support mechanism (or “E-Rate Program”) for three years. The document contained incorrect contact information.

FOR FURTHER INFORMATION CONTACT: Joy M. Ragsdale, 202-418-1697.

Correction

In the Federal Register of January 7, 2015, in FR Doc. 2015-00036, on page 889, in the third column, correct the FOR FURTHER INFORMATION CONTACT section to read:

FOR FURTHER INFORMATION CONTACT: Joy M. Ragsdale, Attorney Advisor, Federal Communications Commission, Enforcement Bureau, Investigations and Hearings Division, Room 4-C330, 445 12th Street SW., Washington, DC 20554. Joy Ragsdale may be contacted by telephone at (202) 418-1697 or by email at Joy.Ragsdale@fcc.gov. If Ms. Ragsdale is unavailable, you may contact Mr. Jeffrey J. Gee, Acting Chief, Investigations and Hearings Division, by telephone at (202) 418-1420 and by email at Jeffrey.Gee@fcc.gov.

Federal Communications Commission.
Jeffrey J. Gee,
Acting Chief, Investigations and Hearings Division, Enforcement Bureau.

[FR Doc. 2015-00354 Filed 1-12-15; 8:45 am]

BILLING CODE 6712-01-P